ENVIRONMENTAL PROTECTION AGENCY

[EPA-HQ-OW-2008-0719, FRL-9613-4]

Agency Information Collection Activities; Proposed Collection; Comment Request; National Pollutant Discharge Elimination System (NPDES) Program (Renewal)

AGENCY: Environmental Protection Agency (EPA).

ACTION: Notice.

SUMMARY: In compliance with the Paperwork Reduction Act (44 U.S.C. 3501 et seq.), this notice announces that EPA is planning to submit a request to renew an existing approved Information Collection Requests (ICR) to the Office of Management and Budget (OMB). This ICR is scheduled to expire on March 31, 2012. Before submitting the ICR to OMB for review and approval, EPA is soliciting comments on specific aspects of the proposed information collection as described below.

DATES: Comments must be submitted on or before February 27, 2012.

ADDRESSES: Submit your comments, identified by Docket ID No. EPA-HQ-OW-2008-0719, by one of the following methods:

• http://www.regulations.gov: Follow the online instructions for submitting comments.

• Email: ow-docket@epa.gov (Identify Docket ID No. EPA-HQ-OW-2008-0719 in the subject line)

• Mail: Water Docket, Environmental Protection Agency, Mailcode: 4203M, 1200 Pennsylvania Ave. NW., Washington, DC 20004. Please include a total of three copies.

• Hand Delivery: EPA Docket Center, EPA West, Room 3334, 1301 Constitution Avenue NW., Washington, DC 20460. Such deliveries are only accepted during the Docket's normal hours of operation, and special arrangements should be made for deliveries of boxed information.

Instructions: Direct your comments identified by the Docket ID No. EPA-HQ-OW-2008-0719. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

FOR FURTHER INFORMATION CONTACT: Amelia Letnes, State and Regional Branch, Water Permits Division, OWM Mail Code: 4203M, Environmental Protection Agency, 1200 Pennsylvania Ave. NW., Washington, DC 20460; telephone number: (202) 564-5627; email address: letnes.amelia@epa.gov.

SUPPLEMENTARY INFORMATION:

How can I access the docket and/or submit comments?

EPA has established a public docket for this ICR under Docket ID No. EPA-HQ-OW-2008-0719, which is available for online viewing at http://www.regulations.gov, or in person viewing at the Water Docket in the EPA Docket Center (EPA/DC), EPA West, Room 3334, 1301 Constitution Ave. NW., Washington, DC. The EPA/DC Public Reading Room is open from 8 a.m. to 4:30 p.m., Monday through Friday, excluding legal holidays. The telephone number for the Reading Room is (202) 566-1744, and the telephone number for the Water Docket is (202) 566-2426.

Use http://www.regulations.gov to obtain a copy of the draft collection of information, submit or view public comments, access the index listing of the contents of the docket, and to access those documents in the public docket that are available electronically. Once in the system, select “search,” then key in the docket ID number identified in this document.

What information is EPA particularly interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What should I consider when I prepare my comments for EPA?

You may find the following suggestions helpful for preparing your comments:

1. Explain your views as clearly as possible and provide specific examples.

2. Describe any assumptions that you used.

3. Provide copies of technical information/data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What information collection activity or ICR does this apply to?

Affected Entities: Entities potentially affected by this action are most facilities required to have NPDES permit coverage, including but not limited to publicly owned treatment works (POTWs), privately owned treatment works (PrOTWs), manufacturing and commercial dischargers, mining operation, stormwater dischargers, and vessels.

Title: National Pollutant Discharge Elimination System (NPDES) Program (Renewal).

ICR Number: EPA ICR No. 0229.20, OMB Control No. 2040-0004.

ICR Status: This ICR is currently scheduled to expire on March 31, 2012. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: This consolidated ICR calculates the burden and costs associated with the NPDES program, identifies the types of activities regulated under the NPDES program, describes the roles and responsibilities of state governments and the Agency, and presents the program areas that address the various types of regulated activities. It is an update of the 2008 Information Collection Request for the NPDES Program (OMB Control Number: 2040-0004; EPA ICR Number: 0229.19) that consolidated the burden and costs associated with activities previously reported in nine of the 15 NPDES program or NPDES-related ICRs administered by EPA's Water Permits Division.

Burden Statement: The annual public reporting and recordkeeping burden for this collection of information is estimated to average 4.3 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Estimated Number of Respondents: 398,340 (397,703 facilities and 637 States/Tribes/Territories).

Frequency of Response: Once, every five years, annually, semi-annually, quarterly, bimonthly, monthly, biweekly, weekly, daily, ongoing, occasionally/as needed.

Estimated Total Annual Hour Burden: 21,324,741 hours.

Estimated Total Annual Cost: $1,014,324,384 includes $211,074 annualized capital costs and $18,551,848 annualized O&M costs.

Change in Burden: The current burden approved by OMB for the ICRs being consolidated is 30,943,308 hours. This consolidated ICR estimates a total burden that is 9,618,566 hours less than the currently approved burden. This decrease in burden corresponds to 31 percent of the overall burden. The main reasons for the change in burden is that EPA generated a new estimate of construction sites based on data collected for the development of the final Construction Effluent Limitation Guidelines. The Agency revised its estimate of the number of large and small construction sites covered by this ICR downward from 243,076 to 84,472 sites annually. The impact of this change in the number of construction sites is a decrease of 8,051,315 hours.

Some other specific reasons for burdens changes are presented below:

• EPA's continuous effort to improve the quality of data in its electronic systems. This change could reflect more accurate data rather than a significant change in the number of permits actually administered. This change is particularly important for activities related to general permittees because in previous ICRs, EPA based the calculation on best professional estimates; whereas, for this ICR, the Agency has inventory numbers from its electronic data systems.

• All combined sewer overflow (CSO) permits or enforcement orders have fulfilled the obligation of Phase I technology-based CSO control requirements (Nine Minimum Controls)

• Previously, EPA accounted for 6 hours per concentrated aquatic agriculture production (CAAP) facilities to submit Form 2b and 0.5 hours per application per state to process and review the form. This burden from CAAP facilities and states has been transferred to the Animal Sectors ICR (OMB Control No. 2040-0250).

• In the previous ICR, EPA accounted for the state burden of 24 hours per pretreatment compliance inspection, but this burden has been transferred to the Pretreatment ICR (OMB Control No. 2040-0009).

What is the next step in the process for this ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: December 19, 2011.
Randolph L. Hill,
Acting Director, Office of Wastewater Management.

[FR Doc. 2011-33270 Filed 12-27-11; 8:45 am]

BILLING CODE 6560-50-P